DEPARTMENT OF EDUCATION

Office of Elementary and Secondary Education; Overview Information: Native Hawaiian Education Program

Notice inviting applications for new awards for fiscal year (FY) 2005.

Catalog of Federal Domestic Assistance (CFDA) Number: 84.362A.

Dates: Applications Available: February 28, 2005. Deadline for Transmittal of Applications: April 14, 2005.

Eligible Applicants: Native Hawaiian educational organizations; Native Hawaiian community-based organizations; public and private nonprofit organizations, agencies, and institutions with experience in developing or operating Native Hawaiian programs or programs of instruction in the Native Hawaiian language, and consortia of the previously mentioned organizations, agencies, and institutions.

Estimated Available Funds: $12,733,000. Contingent upon the availability of funds and quality of applications, the Secretary may make additional awards for FY 2006 from the list of unfunded applicants from this competition.

Estimated Range of Awards: $375,000 to $1,100,000.

Estimated Average Size of Awards: $500,000 (The size of the awards will be commensurate with the nature and scope of the work proposed).

Estimated Number of Awards: 20 to 30.

Note: The Department is not bound by any estimates in this notice.

Project Period: Up to 36 months.

Full Text of Announcement

I. Funding Opportunity Description

Purpose of Program: The purpose of the Native Hawaiian Education program is to support innovative projects that enhance the educational services provided to Native Hawaiian children and adults. These projects may include those activities authorized under section 7205(a)(3) of the Elementary and Secondary Education Act of 1965, as amended (ESEA).

Priorities: In accordance with 34 CFR 75.105(b)(2)(iv) and (b)(2)(v), the following competitive preference priority is from section 7205(a)(2) of the ESEA, and the invitational priority is from allowable activities specified in section 7205(a)(3) of the ESEA.

Competitive Preference Priority: For FY 2005 this priority is a competitive preference priority. Under 34 CFR 75.105(c)(2)(i) we award a maximum of 5 points (total) to an application, depending on the extent to which the application meets this priority.

The Secretary will give a competitive preference to applicants proposing projects that are designed to address one or more of the following:

(a) Beginning reading and literacy among students in kindergarten through third grade;

(b) The needs of at-risk children and youth;

(c) The needs in fields or disciplines in which Native Hawaiians are underemployed; and

(d) The use of the Hawaiian language in instruction.

Within this competitive preference priority, we are particularly interested in applications that address the following invitational priority.

Invitational Priority: For FY 2005 this priority is an invitational priority. Under 34 CFR 75.105(c)(1) we do not give an application that meets this invitational priority a competitive or absolute preference over other applications.

This priority is: Early Childhood Activities, Special Education, and Higher Education.

To meet this priority, an applicant must propose a project that will use grant funds for one or more of the following:

1. The development and maintenance of a statewide Native Hawaiian early education and care system to provide a continuum of services for Native Hawaiian children;

2. Activities that meet the special needs of Native Hawaiian students with disabilities; and

3. Activities to enable Native Hawaiians to enter and complete programs of postsecondary education.

Program Authority: 20 U.S.C. 7515-7517; Consolidated Appropriations Act, 2005 (Pub. L. 108-447).

Applicable Regulations: The Education Department General Administrative Regulations (EDGAR) in 34 CFR parts 74, 75, 77, 80, 81, 82, 84, 85, 86, 97, 98, and 99.

Note: The regulations in 34 CFR part 86 apply to institutions of higher education only.

II. Award Information

Type of Award: Discretionary grant.

Estimated Available Funds: $12,733,000. Contingent upon the availability of funds and quality of applications, the Secretary may make additional awards for FY 2006 from the list of unfunded applicants from this competition.

Estimated Range of Awards: $375,000 to $1,100,000.

Estimated Average Size of Awards: $500,000 (The size of the awards will be commensurate with the nature and scope of the work proposed).

Estimated Number of Awards: 20 to 30.

Note: The Department is not bound by any estimates in this notice.

Project Period: Up to 36 months.

III. Eligibility Information

1. Eligible Applicants: Native Hawaiian educational organizations; Native Hawaiian community-based organizations; public and private nonprofit organizations, agencies, and institutions with experience in developing or operating Native Hawaiian programs or programs of instruction in the Native Hawaiian language; and consortia of the previously mentioned organizations, agencies, and institutions.

2. Cost Sharing or Matching: This competition does not involve cost sharing or matching requirements, but the program does have a supplement-not-supplant funding requirement. Funds made available under this program may be used only to supplement and expand programs and authorities in the area of education to further the purposes of the Native Hawaiian Education program (section 7203(3) of the ESEA).

IV. Application and Submission Information

1. Address to Request Application Package: To obtain a copy of the application package via the Internet use the following address: http://www.ed.gov/programs/nathawaiian/applicant.html.

Individuals may also obtain a copy of the application package by contacting the program contact person listed in this section.

Address and mail your request for information to: Beth Fine, U.S. Department of Education, 400 Maryland Ave., SW., room 3W223, Washington, DC 20202-6200. Telephone: (202) 260-1091 or by e-mail: beth.fine@ed.gov or Francisco Ramirez, U.S. Department of Education, 400 Maryland Ave., SW., room 3W225, Washington, DC 20202-6200. Telephone: (202) 260-1541 or by e-mail: francisco.ramirez@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition.

Page Limit: The application narrative is where you, the applicant, address the selection criteria that reviewers use to evaluate your application. Applicants are strongly encouraged to limit the application narrative (text plus all figures, charts, tables, and diagrams) to the equivalent of no more than 30 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Begin numbering at the right bottom of the first page in Arabic numerals (“1”) and number the pages consecutively throughout the document.

• Include all critical information in the program narrative, eliminating the need for appendices.

The recommended page limit does not apply to the cover sheet; the budget section, including the budget narrative justification; the assurances and certifications; or the project abstract and the resumes.

3. Submission Dates and Times:

Applications Available: February 28, 2005.

Deadline for Transmittal of Applications: April 14, 2005.

Applications for grants under this competition must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

4. Intergovernmental Review: This competition is not subject to Executive Order 12372 and the regulations in 34 CFR part 79.

5. Funding Restrictions: Under section 7205(b) of the ESEA, not more than five percent of funds provided to a grantee under this competition for any fiscal year may be used for administrative purposes. We reference regulations outlining funding restrictions in the Applicable Regulations section of this notice.

6. Other Submission Requirements: Applications for grants under this competition must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications. Applications for grants under the Native Hawaiian Education Program—CFDA Number 84.362A must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesdays; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application should comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 after following these steps:

(1) Print ED 424 from e-Application.

(2) The applicant's Authorizing Representative must sign this form.

(3) Place the PR/Award number in the upper right hand corner of the hard-copy signature page of the ED 424.

(4) Fax the signed ED 424 to the attention of the Native Hawaiian Education Program at (202) 742-5418.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) one of the persons listed elsewhere in this notice under FOR FURTHER INFORMATION CONTACT (see VII. Agency Contacts) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

* You do not have access to the Internet; or

* You do not have the capacity to upload large documents to the Department's e-Application system; and

* No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Beth Fine, U.S. Department of Education, 400 Maryland Avenue, SW., room 3W223, Washington, DC 20202-6200 or Francisco Ramirez, U.S. Department of Education, 400 Maryland Avenue, SW., room 3W225, Washington, DC 20202-6200. FAX: (202) 260-8969.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.362A), 400 Maryland Avenue, SW., Washington, DC 20202-4260. or

By mail through a commercial carrier: U.S. Department of Education, Application Control Center—Stop 4260, Attention: (CFDA Number 84.362A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.362A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 of EDGAR and are listed in the application package. The maximum possible score for this competition is 105 points (100 points under the selection criteria and 5 points under the competitive preference). The maximum possible points for each criterion are as follows:

a. Significance (20 points).

b. Quality of Project Design (35 points).

c. Quality of Project Personnel (10 points).

d. Quality of Management Plan (15 points).

e. Quality of Project Evaluation (20 points).

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice. We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed three measures for evaluating the overall effectiveness of the Native Hawaiian Education Program: (1) Increasing the percentage of teachers who participate in professional development activities under the program that address the unique educational needs of program participants; (2) increasing the percentage of Native Hawaiian children who participate in early education programs and improve on measures of school readiness and literacy; and (3) increasing the percentage of students participating in the program who will meet or exceed proficiency standards in mathematics, science or reading.

All grantees will be expected to submit an annual performance report addressing these performance measures, to the extent that they apply to the grantee's project.

VII. Agency Contacts

FOR FURTHER INFORMATION CONTACT: Beth Fine, U.S. Department of Education, 400 Maryland Avenue, SW., room 3W223, Washington, DC 20202-6200. Telephone: (202) 260-1091 or by e-mail: beth.fine@ed.gov or Francisco Ramirez, U.S. Department of Education, 400 Maryland Avenue, SW., room 3W225, Washington, DC 20202-6200. Telephone: (202) 260-1541 or by e-mail: francisco.ramirez@ed.gov.

If you use a telecommunications device for the deaf (TDD), you may call the Federal Relay Service (FRS) at 1-800-877-8339. Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 22, 2005.
Raymond Simon,
Assistant Secretary for Elementary and Secondary Education.

[FR Doc. E5-798 Filed 2-25-05; 8:45 am]

BILLING CODE 4000-01-P